DEPARTMENT OF ENERGY

Federal Energy Regulatory Commission

[Docket No. RP01-488-000]

Steuben Gas Storage Company, Notice of Tariff Filing

July 30, 2001.

Take notice that on July 18, 2001, Steuben Gas Storage Company (Steuben), tendered for filing as part of its FERC Gas Tariff, Original Volume No. 1, Third Revised Sheet No. 1 and Original Sheet No. 156B, with an effective date of August 20, 2001.

Steuben states that the revised tariff sheets are being filed to modify Steuben's tariff to provide for a general waiver of the “shipper must have title rule” in the event that Steuben is transporting gas or storing gas for others on acquired off-system capacity and to include a general statement that Steuben will only transport or store gas for others using off-system capacity pursuant to its existing Tariff and rates.

Steuben states that copies of the filing has been mailed to each of Steuben's customers and affected state regulatory commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19450 Filed 8-2-01; 8:45 am]

BILLING CODE 6717-01-P